DEPARTMENT OF DEFENSE

Office of the Secretary

Threat Reduction Advisory Committee; Notice of Federal Advisory Committee Meeting

AGENCY: Office of the Under Secretary of Defense (Acquisition, Technology, and Logistics), Department of Defense.

ACTION: Federal Advisory Committee meeting notice.

SUMMARY: The Department of Defense announces the following Federal advisory committee meeting of the Threat Reduction Advisory Committee.

DATES: Wednesday, July 15, from 8:30 a.m. to 4:30 p.m. and Thursday, July 16, 2015, from 8:00 a.m. to 3:30 p.m.

ADDRESSES: CENTRA Technology Inc., Arlington, Virginia.

FOR FURTHER INFORMATION CONTACT: Mr. William Hostyn, DoD, Defense Threat Reduction Agency/J2/5/8R-AC, 8725 John J. Kingman Road, MS 6201, Fort Belvoir, VA 22060-6201. Email: william.p.hostyn.civ@mail.mil. Phone: (703) 767-4453. Fax: (703) 767-4206.

SUPPLEMENTARY INFORMATION: Due to difficulties beyond the control of the Designated Federal Officer, the Department of Defense was unable to finalize the meeting announcement for the scheduled meeting of the Threat Reduction Advisory Committee on July 15-16, 2015, to ensure compliance with 41 CFR 102-3.150(a). Accordingly, the Advisory Committee Management Officer for the Department of Defense, pursuant to 41 CFR 102-3.150(b), waives the 15-calendar day notification requirement.

Purpose of Meeting: This meeting is being held under the provisions of the Federal Advisory Committee Act of 1972 (FACA) (5 U.S.C., Appendix, as amended), the Government in the Sunshine Act of 1976 (5 U.S.C. 552b, as amended), and 41 CFR 102-3.150. The TRAC will obtain, review and evaluate classified information related to the Committee's mission to advise on technology security, Combating Weapons of Mass Destruction (C-WMD), counter terrorism and counter proliferation.

Agenda: All discussions for the two-day meeting will be classified. On Wednesday, July 15, the Chair will open the meeting with remarks that outline the topics that will be covered in the two-day meeting. Following the opening remarks, the TRAC will receive a brief on the Office of Net Assessment and China. Following that brief, a representative from the Joint Atomic Energy Intelligence Committee will brief the TRAC on Russian Weapons Technology. The TRAC will then receive an overview brief on the National Nuclear Security Agency. Following the briefing, the TRAC will receive an overview brief that focuses on Department of Homeland Security Science and Technology. The first day will conclude with a TRAC-only session to discuss the information presented and how it relates to previous and current TRAC studies. The TRAC will continue to meet on July 16, 2015. The Chair will open the day with brief comments that summarize the previous day and outline the current day. Following his comments, the Director of the Defense Threat Reduction Agency & U.S. Strategic Center for Combatting Weapons of Mass Destruction & Standing Joint Force Headquarters—Elimination, will provide an overview of the organization to the TRAC. Following that, the TRAC will discuss the findings and recommendations from the Nuclear Strategic Stability focused information gathering group. Following that, the TRAC will discuss two new taskings: one that will focus on emerging issues for the Defense Threat Reduction Agency & U.S. Strategic Center for Combatting Weapons of Mass Destruction & Standing Joint Force Headquarters—Elimination, and the other will focus on North Korea. Following that, the Chair will lead a discussion on a new tasking, which will focus entirely on Russia and China. The Chair will conclude the meeting by providing an outline for the way forward and expectations for the next plenary that will take place in the fall.

Meeting Accessibility: Pursuant to 5 U.S.C. 552b, and 41 CFR 102-3.155, the Department of Defense has determined that the meeting shall be closed to the public. The Under Secretary of Defense for Acquisition, Technology, and Logistics, in consultation with the Department of Defense FACA Attorney, has determined in writing that the public interest requires all sessions of this meeting be closed to the public because the discussions will be concerned with classified information and matters covered by 5 U.S.C. 552b(c)(1). Such classified matters are inextricably intertwined with the unclassified material and cannot reasonably be segregated into separate discussions without disclosing secret material.

Committee's Designated Federal Officer or Point of Contact: Mr. William Hostyn, DoD, Defense Threat Reduction Agency/J/2/5/8R-ACP, 8725 John J. Kingman Road, MS 6201, Fort Belvoir, VA 22060-6201. Email: william.hostyn@dtra.mil. Phone: (703) 767-4453. Fax: (703) 767-4206.

Written Statements: Pursuant to section 10(a)(3) of FACA and 41 CFR 102-3.105(j) and 102-3.140, the public or interested organizations may submit written statements to the membership of the Committee at any time or in response to the stated agenda of a planned meeting. Written statements should be submitted to the Committee's Designated Federal Officer. The Designated Federal Officer's contact information is listed in the section immediately above or it can be obtained from the General Services Administration's FACA Database— http://www.facadatabase.gov/committee/committee.aspx?cid=1663&aid=41.

Written statements that do not pertain to a scheduled meeting of the Committee may be submitted at any time. However, if individual comments pertain to a specific topic being discussed at a planned meeting, then these statements must be submitted no later than five business days prior to the meeting in question. The Designated Federal Officer will review all submitted written statements and provide copies to all TRAC members.

Dated: July 1, 2015.
Aaron Siegel,
Alternate OSD Federal Register, Liaison Officer, Department of Defense.

[FR Doc. 2015-16578 Filed 7-6-15; 8:45 am]

BILLING CODE 5001-06-P